DEPARTMENT OF COMMERCE

National Telecommunications and Information Administration

Call for Applications for Commerce Spectrum Management Advisory Committee

AGENCY: National Telecommunications and Information Administration, U.S. Department of Commerce.

ACTION: Notice and Call for Applications.

SUMMARY: The National Telecommunications and Information Administration (NTIA) is seeking applications from persons interested in serving on the Department of Commerce's Spectrum Management Advisory Committee (CSMAC) for new two-year terms. The CSMAC provides advice to the Assistant Secretary for Communications and Information and NTIA Administrator on spectrum policy matters.

DATES: Applications must be postmarked or electronically transmitted on or before June 1, 2009.

ADDRESSES: Applications materials should be sent to Joe Gattuso, Designated Federal Officer, by email to spectrumadvisory@ntia.doc.gov; by U.S. mail or commercial delivery service to: Office of Policy Analysis and Development, National Telecommunications and Information Administration, 1401 Constitution Avenue N.W., Room 4725, Washington, DC 20230; or by facsimile transmission to (202) 482-6173.

FOR FURTHER INFORMATION CONTACT: Joe Gattuso at (202) 482-0977 or jgattuso@ntia.doc.gov.

SUPPLEMENTARY INFORMATION: The CSMAC was chartered in 2005 under the Federal Advisory Committee Act (FACA), 5 U.S.C. App. 2 and is consistent with the National Telecommunications and Information Administration Act, 47 U.S.C. § 904(b). The Department of Commerce renewed the CSMAC's charter on April 6, 2009. The CSMAC advises the Assistant Secretary of Commerce for Communications and Information on a broad range of issues regarding spectrum policy. In particular, the charter provides that the CSMAC will provide advice and recommendations on needed reforms to domestic spectrum policies and management in order to: license radio frequencies in a way that maximizes their public benefit; keep wireless networks as open to innovation as possible; and make wireless services available to all Americans. The CSMAC functions solely as an advisory body in compliance with the FACA. Additional information about the CSMAC and its activities may be found at http://www.ntia.doc.gov/advisory/spectrum.

Members of the CSMAC are experts in radio spectrum policy and do not represent any organization or interest. They serve on the CSMAC in the capacity of Special Government Employee. Members will not receive compensation or reimbursement for travel or for per diem expenses.

There are currently 18 members of the CSMAC, who were appointed by the Secretary of Commerce for two-year terms commencing on January 16, 2009. The renewed charter, effective April 6, 2009, allows up to 25 members to serve on the CSMAC.

The Secretary of Commerce may appoint up to seven additional individuals with expertise in those sectors and interests in spectrum policy issues relevant to the CSMAC. Moreover, the charter requires that the CSMAC be fairly balanced in terms of the points of view represented by the members and the functions to be performed. For purposes of obtaining balance, the Secretary will consider for membership interested persons with professional or personal qualifications or experience that will contribute to the CSMAC's work. Such qualifications should generally include, but may not be limited to, expertise and experience in academia, not-for-profit organizations, public advocacy, and in civil society.

Applicants should submit their resume or curriculum vitae and a statement that summarizes the applicant's qualifications and experience. The statement should identify any particular expertise or area of interest relevant to the CSMAC's work. This will aid in the assessment of whether the applicant's qualifications and experience will contribute to the balance of points of view represented on the committee.

Dated: May 1, 2009.
Kathy D. Smith,
Chief Counsel, National Telecommunications and Information Administration.

[FR Doc. E9-10467 Filed 5-5-09; 8:45 am]

BILLING CODE 3510-60-S